DEPARTMENT OF COMMERCE

Foreign-Trade Zones Board

[S-220-2019]

Foreign-Trade Zone 28—New Bedford, Massachusetts; Application for Subzone; The Lobster Trap Co.; Bourne, Massachusetts

An application has been submitted to the Foreign-Trade Zones Board (the Board) by the City of New Bedford, grantee of FTZ 28, requesting subzone status for the facility of The Lobster Trap Co., located in Bourne, Massachusetts. The application was submitted pursuant to the provisions of the Foreign-Trade Zones Act, as amended (19 U.S.C. 81a-81u), and the regulations of the Board (15 CFR part 400). It was formally docketed on October 29, 2019.

The proposed subzone (0.32 acres) is located at 290 Shore Road, Bourne. No authorization for production activity has been requested at this time. The proposed subzone would be subject to the existing activation limit of FTZ 28.

In accordance with the Board's regulations, Elizabeth Whiteman of the FTZ Staff is designated examiner to review the application and make recommendations to the Executive Secretary.

Public comment is invited from interested parties. Submissions shall be addressed to the Board's Executive Secretary and sent to: ftz@trade.gov. The closing period for their receipt is December 16, 2019. Rebuttal comments in response to material submitted during the foregoing period may be submitted during the subsequent 15-day period to December 30, 2019.

A copy of the application will be available for public inspection in the “Reading Room” section of the Board's website, which is accessible via www.trade.gov/ftz.

For further information, contact Elizabeth Whiteman at Elizabeth.Whiteman@trade.gov or (202) 482-0473.

Dated: October 29, 2019.
Andrew McGilvray,
Executive Secretary.

[FR Doc. 2019-24034 Filed 11-1-19; 8:45 am]

BILLING CODE 3510-DS-P